DEPARTMENT OF ENERGY

Federal Energy Regulatory Commission

Combined Notice of Filings #2

Take notice that the Commission received the following electric corporate filings:

Docket Numbers: EC17-165-000.

Applicants: ALLETE, Inc., United Taconite, LLC.

Description: Application for Approval Pursuant to Section 203 of the Federal Power Act of ALLETE, Inc., et. al.

Filed Date: 8/25/17.

Accession Number: 20170825-5208.

Comments Due: 5 p.m. ET 9/15/17.

Take notice that the Commission received the following electric rate filings:

Docket Numbers: ER11-1850-007; ER11-1846-007; ER11-1847-007; ER11-1848-007; ER11-2598-010; ER13-1192-004.

Applicants: Direct Energy Business, LLC, Direct Energy Business Marketing, LLC, Direct Energy Marketing Inc., Direct Energy Services, LLC, Gateway Energy Services Corporation, Energy America, LLC.

Description: Supplement to June 28, 2017 Northeast Region Triennial Report of the Direct Energy Sellers.

Filed Date: 8/25/17.

Accession Number: 20170825-5181.

Comments Due: 5 p.m. ET 9/15/17.

Docket Numbers: ER17-2356-000.

Applicants: Alabama Power Company.

Description: Compliance filing: Filing to Correct OATT Language Errata (ER08-129-000) in Attachment M in the eTariff Viewer to be effective 1/1/2011.

Filed Date: 8/25/17.

Accession Number: 20170825-5116.

Comments Due: 5 p.m. ET 9/15/17.

Docket Numbers: ER17-2357-000.

Applicants: Duke Energy Indiana, LLC.

Description: § 205(d) Rate Filing: Letter Agreement with WVPA—RS 271 to be effective 8/28/2017.

Filed Date: 8/25/17.

Accession Number: 20170825-5134.

Comments Due: 5 p.m. ET 9/15/17.

Docket Numbers: ER17-2358-000.

Applicants: Southern California Edison Company.

Description: § 205(d) Rate Filing: Amended GIA Edom Hills Project 1, LLC—Edom Hills Wind Park WDT1153QFC to be effective 8/25/2017.

Filed Date: 8/25/17.

Accession Number: 20170825-5138.

Comments Due: 5 p.m. ET 9/15/17.

Docket Numbers: ER17-2359-000.

Applicants: Midcontinent Independent System Operator, Inc., MDU Resources Group, Inc.

Description: § 205(d) Rate Filing: 2017-08-25_Rate Schedule 50—MDU-Basin Revenue Sharing Agreement to be effective 5/1/2017.

Filed Date: 8/25/17.

Accession Number: 20170825-5153.

Comments Due: 5 p.m. ET 9/15/17.

Docket Numbers: ER17-2360-000.

Applicants: Appalachian Power Company, PJM Interconnection, L.L.C.

Description: § 205(d) Rate Filing: APCo submits 10th Revised ILDSA No. 1252, FA and LA with BRPA to be effective 9/17/2010.

Filed Date: 8/25/17.

Accession Number: 20170825-5179.

Comments Due: 5 p.m. ET 9/15/17.

Docket Numbers: ER17-2361-000.

Applicants: ITC Midwest LLC.

Description: § 205(d) Rate Filing: Filing of a Master JUA for Distribution Underbuild with MiEnergy to be effective 10/24/2017.

Filed Date: 8/25/17.

Accession Number: 20170825-5184.

Comments Due: 5 p.m. ET 9/15/17.

Docket Numbers: ER17-2362-000.

Applicants: PJM Interconnection, L.L.C.

Description: § 205(d) Rate Filing: Revisions to OATT Sch. 12—Appdx A re: RTEP Projects Approved by Board July 2017 to be effective 11/23/2017.

Filed Date: 8/25/17.

Accession Number: 20170825-5228.

Comments Due: 5 p.m. ET 9/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2017.
Nathaniel J. Davis, Sr.,
Deputy Secretary.

[FR Doc. 2017-18466 Filed 8-30-17; 8:45 am]

BILLING CODE 6717-01-P